DEPARTMENT OF AGRICULTURE

Commodity Credit Corporation

7 CFR Part 1466

RIN 0578-AA45

Environmental Quality Incentives Program Correction

AGENCY: Commodity Credit Corporation, Natural Resources Conservation Service, United States Department of Agriculture.

ACTION: Interim final rule; correction; extension of comment period.

SUMMARY: The Commodity Credit Corporation (CCC) published in the Federal Register of January 15, 2009, an interim final rule with request for comment amending the program regulations for the Environmental Quality Incentives Program (EQIP) to incorporate programmatic changes authorized by the Food, Conservation, and Energy Act of 2008 (2008 Act). The language in the interim final rule regarding the application of the payment limitation to joint operations was incorrect and is inconsistent with payment attributions specified in the regulation which governs payment limitations and eligibility determinations for CCC-funded programs. This document corrects that language. CCC is also using the opportunity presented by this rulemaking to extend the comment period and ask for public input on key programmatic implementation questions.

DATES: This correction is effective on March 12, 2009. Submit comments on or before April 17, 2009. The comment period for the EQIP Interim Final Rule published on January 15, 2009 (74 FR 2293) is hereby extended and comments must be received on or before April 17, 2009. Additionally, NRCS has reopened and extended the public comment period for the Environmental Analysis (EA) and Finding of No Significant Impact (FONSI) until April 17, 2009. A copy of the EA and FONSI may be obtained, and comments submitted, as provided for in the January 15, 2009, EQIP interim final rule.

FOR FURTHER INFORMATION CONTACT: Gregory Johnson, Director, Financial Assistance Programs Division, U.S. Department of Agriculture, Natural Resources Conservation Service, Room 5237, P.O. Box 2890, Washington, DC 20013-2890; Phone: (202) 720-1845; Fax: (202) 720-4265.

SUPPLEMENTARY INFORMATION: The CCC published an interim final rule in the Federal Register of January 15, 2009 (74 FR 2293), amending the program regulations for EQIP found at 7 CFR part 1466. The language in the interim final rule regarding the application of the payment limitation to joint operations was incorrect. The EQIP interim final rule inadvertently applied the $300,000 payment limitation to joint operations. A joint operation is composed of members who may be either persons or legal entities. As specified under 7 CFR part 1400, payment limitations are determined on a pro-rata basis in accordance with the “interest held by the person or legal entity in any other legal entity or joint operation.” Based on how joint operations are characterized in part 1400.106, the $300,000 payment limit applies to each person or legal entity that comprises the joint operation. Within the preamble of 7 CFR part 1466, the discussion on payment limitation should apply solely to persons or legal entities. References in that preamble to payment limitations on joint operations are hereby deleted.

Request for Public Input

USDA furthers the Nation's ability to increase renewable energy production and conservation, mitigate the effects and adapt to climate change, and reduce net carbon and greenhouse gas (GHG) emissions through various assistance programs.

USDA is increasing renewable energy production through facilitating the availability, adoption, and use of wind, solar, and biofuel energy sources. USDA encourages renewable energy production by funding biofuel technology transfer under Conservation Innovation Grants and through facilitating wind and solar power generation facilities for on-farm use on conservation lands under the Conservation Reserve Program and the Grassland Reserve Program.

Energy conservation is improved through more efficient equipment and processes. EQIP fosters energy conservation on farms and ranches by promoting efficient water irrigation systems, no-till, and nutrient management and promoting renewable energy production by installing solar-generated electric fences.

The effects of climate change can be mitigated through improving the adaptability of ecosystems and flexibility of agricultural management systems, including reductions in GHG emissions. The Wildlife Habitat Incentive Program improves ecosystem adaptability by enhancing wildlife habitat biodiversity, and the Agricultural Management Assistance program promotes flexible management system through integrated pest management.

Climate change adaptation occurs through the adoption of alternative management systems which respond to changes such as decreasing precipitation, longer growing seasons, and increasing vulnerability to pest damage. USDA conservation programs, such as the Agricultural Water Enhancement Program, encourage the adoption of water conservation systems and dry land farming.

Net carbon emissions can be reduced by reducing fossil fuel use or increasing the land's carbon storage capacity. USDA conservation programs, such as EQIP, assist participants with reducing fossil fuel use through no-till and other conservation tillage cropping systems which require fewer trips over a field with a tractor. The Wetlands Reserve Program and Healthy Forests Reserve Program sequester carbon by encouraging agricultural land reforestation. The Conservation Stewardship Program encourages practices that improve soil carbon storage.

While much is underway, USDA has adopted a proactive strategy to increase its ability to meet these critical National needs. Therefore, CCC is using this rulemaking opportunity to obtain input from the public on how EQIP can achieve its program purposes and further the Nation's efforts with renewable energy production, energy conservation, mitigating the effects of climate change, facilitating climate change adaptation, or reducing net carbon emissions. For further information on these subjects you may wish to look at the following Web site: http://www.koshland-science-museum.org/exhibitgcc/.

For the reasons stated in the preamble, the CCC amends part 1466 of Title 7 of the Code of Federal Regulations as set forth below:

PART 1466—ENVIRONMENTAL QUALITY INCENTIVES PROGRAM

1. The authority citation for part 1466 continues to read as follows:

Authority: 15 U.S.C. 714b and 714c; 16 U.S.C. 3839aa-3839aa-8.

2. Amend § 1466.24 by revising paragraphs (a), (b), and (c) to read as follows:

§ 1466.24 EQIP Payments.

(a) Except for contracts entered into prior to October 1, 2008, or as provided in paragraph (b) of this section, the total amount of payments paid to a person or legal entity under this Part may not exceed an aggregate of $300,000, directly or indirectly, for all contracts, including prior year contracts, entered into during any 6-year period. For the purpose of applying this requirement, the 6-year period will include those payments made in fiscal years 2009-2014. Payments received for technical assistance shall be excluded from this limitation.

(b) The Chief may waive the $300,000 payment limitation, allowing up to $450,000 per person or legal entity for projects of special environmental significance, as defined in § 1466.21(d).

(c) Payments for conservation practices related to organic production to a person or legal entity, directly or indirectly, may not exceed in aggregate $20,000 per year or $80,000 during any 6-year period.

* * * * *

Signed this 4th day of March 2009, in Washington, DC.
Dave White,
Acting Vice President, Commodity Credit Corporation and Acting Chief, Natural Resources Conservation Service.

[FR Doc. E9-5087 Filed 3-11-09; 8:45 am]

BILLING CODE 3410-16-P